LIBRARY OF CONGRESS

[Docket No. 2024-1]

Announcement Reauthorizing Copyright Public Modernization Committee

AGENCY: Library of Congress.

ACTION: Notice of reauthorizing IT modernization public stakeholder committee.

SUMMARY: The Library of Congress is reauthorizing a public committee to provide a forum for the technology-related aspects of the U.S. Copyright Office's modernization initiative. Given the success of the previous Copyright Public Modernization Committee (CPMC) and the value and insights provided by CPMC members, the Library wants to renew the committee for an additional term. Therefore, the Library will accept applications from qualified members of the public to serve on this committee. Membership will be on a volunteer basis, with the expectation of participation in at least two virtual or hybrid open forums a year at the member's own expense.

DATES: Applications must be submitted on or before June 18, 2024.

ADDRESSES: Applications may be submitted electronically to the CPMC's dedicated email inbox at cpmc@loc.gov.

FOR FURTHER INFORMATION CONTACT: Neil D. Bernstein, Program Analyst, Office of the Chief Information Officer, by telephone at 202-707-9319 or by email at cpmc@loc.gov.

SUPPLEMENTARY INFORMATION:

I. Background

The Library of Congress will reauthorize and form a public committee on Copyright Office information technology (IT) modernization. The committee will be managed by the Office of the Chief Information Officer (OCIO), with support from the U.S. Copyright Office and from other Library offices as necessary. The goal of the committee will be to expand and enhance communication with external stakeholders on IT modernization of Copyright Office systems and to provide an ongoing public forum for sharing information and answering questions related to this initiative. The scope of contributions made by the committee are limited to the specific topics set forth in this notice.

II. Public Stakeholder Committee Subjects of Discussion

Members of the Copyright Public Modernization Committee will provide feedback to the Library on the technology-related aspects of the Copyright Office's modernization initiative, including both Copyright Office IT systems and broader Library IT systems that interface with and/or support Copyright Office operations.

III. Public Stakeholder Committee Application Process

Members of the public who seek to participate in the Copyright Public Modernization Committee should submit a current curriculum vitae and a statement of interest of no more than 1000 words addressing the questions identified below no later than June 18, 2024. Members who served on the previous Committee are eligible to reapply for membership but must submit a new application. Applications can be submitted via email at cpmc@loc.gov. If you are unable to access a computer or the internet, please contact the Library using the contact information above for special instructions. Individuals selected for participation will be notified directly by the Library not later than September 6, 2024. In order to accommodate the expected level of interest, the Library expects to assign no more than one representative per organization to the committee.

The public stakeholder committee will have a limited number of seats, and the application and selection process are expected to be competitive. The Library will seek to select a membership that is representative of the broad and diverse Copyright Office stakeholder community. The areas of relevant expertise for membership include skill in communicating on complex technical issues; the ability to work collaboratively; and familiarity with technology relevant to Copyright Office services.

IV. Questions for Statement of Interest

For the Statement of Interest, the applicant need not address every subject identified below, but the Library requests that applicants clearly identify and separately address each numbered subject for which a response is submitted. Answers will be evaluated by the Library to select a committee with members that represent the broadest possible cross-section of Copyright Office stakeholders.

1. An important skill for members of the CPMC is the ability to communicate, whether orally or in writing, on complex technological issues, including describing their impact on the needs or interests of Copyright Office stakeholders. Please identify any relevant experience you have working and communicating on technological issues with these or any other relevant parties:

(a) Individual creators and copyright owners;

(b) Large corporate creators and companies that own or manage copyrights;

(c) Small-to-medium size enterprises that own or manage copyrights;

(d) Creators, copyright owners, or copyright users from the following sectors: photography, motion picture, musical works, sound recordings, graphic arts, publishing, software, and information technology;

(e) users of Copyright Office services, including but not limited to individuals or entities that register their works with the Office, record copyright-related documents with the Office, or benefit from or pay into the licensing systems administered by the Copyright Office;

(f) user interest groups, including researchers, universities, archives, and libraries; and

(g) representatives of the public and public interest groups (including organizations involved in issues related to open government, public government data and APIs, and government use of technology).

2. Another important skill for members of the CPMC is the ability to work collaboratively with others, including diverse stakeholders. Please describe any relevant past experience developing and maintaining relationships with a variety of individuals; communicating effectively about topics involving inter-dependencies, competing priorities, and diverse audiences/user groups; or reaching a consensus among diverse stakeholders with conflicting interests.

3. A key skill that the Library is seeking in members of the CPMC is familiarity with the technology relevant to the Copyright Office and the Office's recent IT initiatives. Please describe any relevant experience in the following sectors: government innovation and/or technology, copyright law and Copyright Office services, rights management, and the development and use of IT systems in library, cultural heritage, museum, creative industry or other settings.

4. Please describe your knowledge of user-centered strategies and design methods, including any experience applying iterative design principles to solving complex problems.

5. If your application is endorsed by other stakeholders or associations, please identify them.

Dated: May 7, 2024.
Carla D. Hayden,
Librarian of Congress.

[FR Doc. 2024-10243 Filed 5-9-24; 8:45 am]

BILLING CODE 1410-30-P